FEDERAL RESERVE SYSTEM

Agency Information Collection Activities: Announcement of Board Approval Under Delegated Authority and Submission to OMB With Request for Comments

AGENCY: Board of Governors of the Federal Reserve System.

ACTION: Notice; extension of comment period.

SUMMARY: On November 30, 2018, the Board published a notice in the Federal Register (83 FR 61635) requesting public comment for 60 days on a proposal to extend for three years, with revision, the Application to Become a Savings and Loan Holding Company or to Acquire a Savings Association or Savings and Loan Holding Company (FR LL-10(e); OMB No. 7100-0336). The comment period for this notice expired on January 29, 2019. For reasons described below, the Board has determined that it is appropriate to reopen the comment period for 30 days. This action will allow interested persons additional time to analyze the proposal and prepare their comments.

DATES: Comments must be submitted on or before April 8, 2019.

ADDRESSES: You may submit comments, identified by FR LL-10(e), by any of the following methods:

• Agency Website: http://www.federalreserve.gov. Follow the instructions for submitting comments at http://www.federalreserve.gov/generalinfo/foia/ProposedRegs.cfm.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available from the Board's website at http://www.federalreserve.gov/generalinfo/foia/ProposedRegs.cfm as submitted, unless modified for technical reasons. Accordingly, comments will not be edited to remove any identifying or contact information. Public comments may also be viewed electronically or in paper form in Room 146, 1709 New York Avenue NW, Washington, DC 20006 between 9:00 a.m. and 5:00 p.m. on weekdays.

Additionally, commenters may send a copy of their comments to the OMB Desk Officer—Shagufta Ahmed—Office of Information and Regulatory Affairs, Office of Management and Budget, New Executive Office Building, Room 10235, 725 17th Street NW, Washington, DC 20503 or by fax to (202) 395-6974.

FOR FURTHER INFORMATION CONTACT: A copy of the PRA OMB submission, including the proposed reporting form and instructions, supporting statement, and other documentation will be placed into OMB's public docket files, if approved. These documents will also be made available on the Board's public website at http://www.federalreserve.gov/apps/reportforms/review.aspx or may be requested from the agency clearance officer, whose name appears below.

Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

SUPPLEMENTARY INFORMATION: On November 30, 2018, the Board invited public comment on a proposal to extend for three years, with revision, the FR LL-10(e). The FR LL-10(e) collects information that must be filed in connection with certain proposals involving the formation, acquisition, or merger of a savings and loan holding company.

At the time the Board invited public comment on the proposal, it made available a version of the proposed reporting form and instructions on the Board's public website. However, the version that was made available on the Board's public website mistakenly omitted the proposed certification page for the FR LL-10(e). The certification page records identification and contact information for the applicant, whether the applicant is requesting confidential treatment for materials submitted, and a certification by a representative of the applicant that, among other things, the information provided in the application is accurate to the best of the signatory's knowledge and belief. A version of this certification page is currently included as part of the current form (Form H-(e)). The proposed version of the certification page would alter the style and formatting of the certification page to make it consistent with certification pages found in other Board forms. This proposed version of the certification page is now available on the Board's public website as part of the proposed reporting form and instructions for this collection of information.

In order to provide the public with an opportunity to review and comment on the certification page, the Board is reopening the comment period on this proposal for a period of 30 days.

By order of the Board of Governors of the Federal Reserve System, acting through the Secretary of the Board under delegated authority, March 4, 2019.
Ann E. Misback,
Secretary of the Board.

[FR Doc. 2019-04175 Filed 3-7-19; 8:45 am]

BILLING CODE 6210-01-P